NUCLEAR REGULATORY COMMISSION

[NRC-2012-0002]

Sunshine Federal Register Notice

AGENCY HOLDING THE MEETINGS: Nuclear Regulatory Commission.

DATE: Weeks of November 12, 19, 26, December 3, 10, 17, 2012.

PLACE: Commissioners' Conference Room, 11555 Rockville Pike, Rockville, Maryland.

STATUS: Public and Closed.

Week of November 12, 2012

There are no meetings scheduled for the week of November 12, 2012.

Week of November 19, 2012—Tentative

There are no meetings scheduled for the week of November 19, 2012.

Week of November 26, 2012—Tentative

Tuesday, November 27, 2012

9:00 a.m. Briefing on Operator Licensing Program (Public Meeting) (Contact: Jack McHale, 301-415-3254).

This meeting will be webcast live at the Web address— www.nrc.gov.

Wednesday, November 28, 2012

9:00 a.m. Discussion of Management and Personnel Issues, (Closed—Ex. 2 & 6).

2:00 p.m. Discussion of Management and Personnel Issues, (Closed—Ex. 1, 2 & 6).

Thursday, November 29, 2012

2:30 p.m. Briefing on Security Issues (Closed—Ex. 1).

Week of December 3, 2012—Tentative

Thursday, December 6, 2012

9:30 a.m. Meeting with the Advisory Committee on Reactor Safeguards, (ACRS) (Public Meeting), (Contact: Ed Hackett, 301-415-7360).

This meeting will be webcast live at the Web address— www.nrc.gov.

Week of December 10, 2012—Tentative

There are no meetings scheduled for the week of December 10, 2012.

Week of December 17, 2012—Tentative

There are no meetings scheduled for the week of December 17, 2012.

* * * * *

* The schedule for Commission meetings is subject to change on short notice. To verify the status of meetings, call (recording)—301-415-1292. Contact person for more information: Rochelle Bavol, 301-415-1651.

* * * * *

The NRC Commission Meeting Schedule can be found on the Internet at: http://www.nrc.gov/public-involve/public-meetings/schedule.html.

* * * * *

The NRC provides reasonable accommodation to individuals with disabilities where appropriate. If you need a reasonable accommodation to participate in these public meetings, or need this meeting notice or the transcript or other information from the public meetings in another format (e.g. braille, large print), please notify Bill Dosch, Chief, Work Life and Benefits Branch, at 301-415-6200, TDD: 301-415-2100, or by email at william.dosch@nrc.gov. Determinations on requests for reasonable accommodation will be made on a case-by-case basis.

* * * * *

This notice is distributed electronically to subscribers. If you no longer wish to receive it, or would like to be added to the distribution, please contact the Office of the Secretary, Washington, DC 20555 (301-415-1969), or send an email to darlene.wright@nrc.gov.

Dated: November 8, 2012.
Rochelle C. Bavol,
Policy Coordinator, Office of the Secretary.

[FR Doc. 2012-27740 Filed 11-9-12; 11:15 am]

BILLING CODE 7590-01-P